DEPARTMENT OF ENERGY

Federal Energy Regulatory Commission

[Docket No. RP03-542-000]

Texas Eastern Transmission, LP; Notice of Proposed Changes in FERC Gas Tariff

July 8, 2003.

Take notice that on July 1, 2003, Texas Eastern Transmission, LP (Texas Eastern) tendered for filing as part of its FERC Gas Tariff, Seventh Revised Volume No. 1 and First Revised Volume No. 2, revised tariff sheets listed on Appendix A to the filing, to become effective August 1, 2003.

Texas Eastern states that these revised tariff sheets are filed pursuant to section 15.1 of the General Terms and Conditions of Texas Eastern's FERC Gas Tariff, Seventh Revised Volume No. 1, addressing the Electric Power Cost Adjustment. Texas Eastern states that section 15.1 provides that Texas Eastern shall file, to be effective each August 1, revised rates for each applicable zone and rate schedule based upon the projected annual electric power costs required for the operation of transmission compressor stations with electric motor prime movers. Texas Eastern also states that, as required by Commission orders approving the TIME and Freehold projects on Texas Eastern's system, all costs of electric power compression required for the incremental services under the TIME and Freehold projects are assigned to the incremental services.

Texas Eastern states that the revised tariff sheets hereto reflect an increase in Texas Eastern's EPC Adjustment, effective August 1, 2003, such that, for example, the primary firm capacity reservation charges, usage rates and 100% load factor average costs for full Access Area Boundary service from the Access Area Zone ELA (East Louisiana) to the three market area zones are as follows:

Zone | Reservation | Usage | 100% LF
Market 1 | $0.019/dth | $0.0015/dth | $0.0021/dth
Market 2 | $0.057/dth | $0.0046/dth | $0.0065/dth
Market 3 | $0.085/dth | $0.0067/dth | $0.0095/dth

Texas Eastern states that copies of its filing have been mailed to all affected customers and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: July 14, 2003.

Magalie R. Salas,
Secretary.

[FR Doc. 03-17688 Filed 7-11-03; 8:45 am]

BILLING CODE 6717-01-P